NATIONAL AERONAUTICS AND SPACE ADMINISTRATION

[Notice: 23-095]

NASA Federal Advisory Committees; Charter Renewals

AGENCY: National Aeronautics and Space Administration (NASA).

ACTION: Notice of charter renewals for four NASA Federal advisory committees.

SUMMARY: Pursuant to the Federal Advisory Committee Act (FACA), and after consultation with the Committee Management Secretariat, General Services Administration, the NASA Administrator has determined that renewal of the charters of four NASA Federal advisory committees is in the public interest in connection with the performance of duties imposed on NASA by law. These four advisory committees are: Astrophysics Advisory Committee, Earth Science Advisory Committee, Heliophysics Advisory Committee, and Planetary Science Advisory Committee. The renewed charters are for a two-year period ending August 30, 2025.

FOR FURTHER INFORMATION CONTACT: Ms. Patricia Diane Rausch, NASA Advisory Committee Management Officer, NASA Headquarters, Washington, DC 20546; or 202-358-4510 or diane.rausch@nasa.gov.

Patricia Rausch,
Advisory Committee Management Officer, National Aeronautics and Space Administration.

[FR Doc. 2023-19621 Filed 9-11-23; 8:45 am]

BILLING CODE 7510-13-P